NUCLEAR REGULATORY COMMISSION

[Docket No. 50-423-LA-3; ASLBP No. 00-771-01-LA]

In the Matter of Northeast Nuclear Energy Company (Millstone Nuclear Power Station, Unit No. 3; Facility Operating License NPF-49); Notice of Oral Argument and Opportunity for Oral Limited Appearance Statements

May 12, 2000.

This proceeding involves the proposed increase in capacity (through the addition of high-density storage racks) of the spent fuel storage pool of the Millstone Nuclear Power Station, Unit No. 3, in New London County, Connecticut. Notice is hereby given that, as described in the Atomic Safety and Licensing Board's Memorandum and Order (Schedules for Proceeding), dated April 19, 2000, the oral argument prescribed by 10 CFR Part 2, Subpart K, §§ 2.1109 and 2.1113 will take place at the Richard Martin Center Auditorium, 120 Broad Street, New London, CT, on Wednesday, July 19, 2000, beginning at 9:00 a.m. To the extent necessary, the oral argument will continue on Thursday, July 20, 2000, at the same location, beginning at 9:00 a.m.

As set forth in the February 9, 2000 Notice of Hearing for this proceeding, 65 FR 7573 (Feb. 15, 2000), the Atomic Safety and Licensing Board, pursuant to 10 CFR 2.715(a), will entertain limited appearance statements from any person who is not a party to the proceeding, for the purpose of stating his or her views on the issues involved in this proceeding. Although these statements are not testimony or evidence and do not become part of the decisional record, they may assist the Licensing Board and the parties in their consideration of matters at issue in this proceeding.

Limited appearance statements may be submitted in writing at any time during this proceeding. In addition, in conjunction with the aforesaid oral argument, the Board has determined to hear oral limited appearance statements, at the Radisson Hotel, Ballroom 1 and 2, 35 Governor Winthrop Blvd., New London, Connecticut, from 7:00-9:00 p.m. on Tuesday, July 18, 2000 (or such lesser time as is necessary to accommodate speakers who are present). Further oral limited appearance statements will be heard on Thursday, July 20, 2000, at the Richard Martin Center Auditorium, for a two-hour period (or such lesser time as is necessary to accommodate speakers who are present) beginning at 9:00 a.m. or following conclusion of the oral argument, if such argument is not completed on July 19. Each oral statement may normally extend for up to approximately 5 minutes.

Written limited appearance statements, and requests to make oral statements, should be submitted to the Office of the Secretary, Rulemaking and Adjudications Staff, U.S. Nuclear Regulatory Commission, Washington, DC 20555. A copy of such statement or request should also be served on the Chairman of this Atomic Safety and Licensing Board, T-3 F23, U.S. Nuclear Regulatory Commission, Washington, DC 20555, or CXB2@nrc.gov. Those who have filed written requests to make statements will be given preference as to the time of their statements.

Documents related to this proceeding, issued prior to December 1, 1999, are available in print form for public inspection at the Commission's Public Document Room (PDR), 2120 L St. NW, Washington, DC. Documents issued subsequent to November 1, 1999 are available electronically through the Agencywide Documents Access and Management System (ADAMS), with access to the public through NRC's Internet Web site (Public Electronic Reading Room Link, <http://www.nrc.gov/NRC/ADAMS/index.html>).

For the Atomic Safety and Licensing Board.

Dated at Rockville, Maryland, May 12, 2000.
Charles Bechhoefer,
Chairman, Administrative Judge.

[FR Doc. 00-12550 Filed 5-17-00; 8:45 am]

BILLING CODE 7590-01-P